DEPARTMENT OF ENERGY

Federal Energy Regulatory Commission

Combined Notice of Filings #1

Take notice that the Commission received the following exempt wholesale generator filings:

Docket Numbers: EG24-164-000.

Applicants: High River Energy Center, LLC.

Description: High River Energy Center, LLC submits Notice of Self-Certification of Exempt Wholesale Generator Status.

Filed Date: 4/19/24.

Accession Number: 20240419-5198.

Comment Date: 5 p.m. ET 5/10/24.

Docket Numbers: EG24-165-000.

Applicants: Liberty County Solar Project, LLC.

Description: Liberty County Solar Project, LLC submits Notice of Self-Certification of Exempt Wholesale Generator Status.

Filed Date: 4/19/24.

Accession Number: 20240419-5238.

Comment Date: 5 p.m. ET 5/10/24.

Take notice that the commission received the following electric rate filings:

Docket Numbers: ER11-2376-003.

Applicants: Orange and Rockland Utilities, Inc.

Description: Notice of Non-Material Change in Status of Orange and Rockland Utilities, Inc.

Filed Date: 4/19/24.

Accession Number: 20240419-5232.

Comment Date: 5 p.m. ET 5/10/24.

Docket Numbers: ER19-289-008; ER19-2462-006; ER18-2264-002.

Applicants: Macquarie Energy Trading LLC, Energy LLC, Cleco Cajun LLC.

Description: Amendment to June 30, 2022 Triennial Market Power Analysis for the Northwest Region of Cleco Cajun LLC, et al.

Filed Date: 4/19/24.

Accession Number: 20240419-5231.

Comment Date: 5 p.m. ET 5/10/24.

Docket Numbers: ER24-609-002.

Applicants: PJM Interconnection, L.L.C.

Description: Tariff Amendment: Amendment to Filing, WMPA SA No. 5545; Queue No. AE2-125 to be effective 2/7/2024.

Filed Date: 4/19/24.

Accession Number: 20240419-5195.

Comment Date: 5 p.m. ET 5/10/24.

Docket Numbers: ER24-1278-001.

Applicants: Alabama Power Company, Georgia Power Company, Mississippi Power Company.

Description: Tariff Amendment: Alabama Power Company submits tariff filing per 35.17(b): Amber Meadow Solar LGIA Amendment Filing to be effective 2/7/2024.

Filed Date: 4/18/24.

Accession Number: 20240418-5206.

Comment Date: 5 p.m. ET 5/9/24.

Docket Numbers: ER24-1791-000.

Applicants: Public Service Company of New Mexico.

Description: § 205(d) Rate Filing: Certificate of Concurrence to Rate Schedule No. 160 to be effective 5/1/2024.

Filed Date: 4/18/24.

Accession Number: 20240418-5232.

Comment Date: 5 p.m. ET 5/9/24.

Docket Numbers: ER24-1792-000.

Applicants: Cald BESS LLC.

Description: Baseline eTariff Filing: Baseline FERC Market-Based Rate Tariff to be effective 4/19/2024.

Filed Date: 4/18/24.

Accession Number: 20240418-5243.

Comment Date: 5 p.m. ET 5/9/24.

Docket Numbers: ER24-1793-000.

Applicants: Northern Indiana Public Service Company LLC.

Description: § 205(d) Rate Filing: Timmons CIAC Agreement to be effective 4/21/2024.

Filed Date: 4/18/24.

Accession Number: 20240418-5245.

Comment Date: 5 p.m. ET 5/9/24.

Docket Numbers: ER24-1794-000.

Applicants: New York Independent System Operator, Inc.

Description: Tariff Amendment: Notice of Cancellation of LGIA SA 2672 among NYISO, LIPA, and Peconic to be effective 6/19/2024.

Filed Date: 4/19/24.

Accession Number: 20240419-5065.

Comment Date: 5 p.m. ET 5/10/24.

Docket Numbers: ER24-1795-000.

Applicants: ESV Energy Management, LLC.

Description: Baseline eTariff Filing: ESV Energy Management, LLC MBR Tariff to be effective 6/19/2024.

Filed Date: 4/19/24.

Accession Number: 20240419-5083.

Comment Date: 5 p.m. ET 5/10/24.

Docket Numbers: ER24-1796-000.

Applicants: Midcontinent Independent System Operator, Inc.

Description: § 205(d) Rate Filing: 2024-04-19_Schedule 27 DAMAP STR Correction to be effective 6/19/2024.

Filed Date: 4/19/24.

Accession Number: 20240419-5087.

Comment Date: 5 p.m. ET 5/10/24.

Docket Numbers: ER24-1797-000.

Applicants: Alabama Power Company, Georgia Power Company, Mississippi Power Company.

Description: § 205(d) Rate Filing: Alabama Power Company submits tariff filing per 35.13(a)(2)(iii: Perry Alabama Solar (Perry Solar) LGIA Filing to be effective 4/5/2024.

Filed Date: 4/19/24.

Accession Number: 20240419-5105.

Comment Date: 5 p.m. ET 5/10/24.

Docket Numbers: ER24-1798-000.

Applicants: Alabama Power Company, Georgia Power Company, Mississippi Power Company.

Description: § 205(d) Rate Filing: Alabama Power Company submits tariff filing per 35.13(a)(2)(iii: Russell County Solar (Russell Solar) LGIA Filing to be effective 4/5/2024.

Filed Date: 4/19/24.

Accession Number: 20240419-5107.

Comment Date: 5 p.m. ET 5/10/24.

Docket Numbers: ER24-1799-000.

Applicants: Alabama Power Company, Georgia Power Company, Mississippi Power Company.

Description: § 205(d) Rate Filing: Alabama Power Company submits tariff filing per 35.13(a)(2)(iii: Alabama Creek Solar LGIA Filing to be effective 4/5/2024.

Filed Date: 4/19/24.

Accession Number: 20240419-5110.

Comment Date: 5 p.m. ET 5/10/24.

Docket Numbers: ER24-1800-000.

Applicants: New York Independent System Operator, Inc.

Description: New York Independent System Operator filed Prospective Waiver Request of MST 5.11.4 and 5.11.4(c) clarifying NYISO may revise Locational Minimum Installed Capacity Requirement for Load Zone J for the 2024-2025 Capability Year.

Filed Date: 4/18/24.

Accession Number: 20240418-5321.

Comment Date: 5 p.m. ET 4/23/24.

Docket Numbers: ER24-1801-000.

Applicants: Public Service Company of Colorado.

Description: Formula Rate Charges and Transmission Formula Rate Charges for 2023 Post-Retirement Benefits Other than Pensions of Public Service Company of Colorado.

Filed Date: 4/16/24.

Accession Number: 20240416-5288.

Comment Date: 5 p.m. ET 5/7/24.

Take notice that the commission received the following electric securities filings:

Docket Numbers: ES24-25-000.

Applicants: PJM Settlement, Inc.

Description: Amendment to Application Under Section 204 of the Federal Power Act for Authorization to Issue Securities of PJM Settlement, Inc and Update to Exbibits, C, D & E.

Filed Date: 4/18/24.

Accession Number: 20240418-5324.

Comment Date: 5 p.m. ET 4/29/24.

Docket Numbers: ES24-35-000; ES24-36-000.

Applicants: ATC Management Inc., American Transmission Company LLC.

Description: Application Under Section 204 of the Federal Power Act for Authorization to Issue Securities of American Transmission Company LLC, et al.

Filed Date: 4/18/24.

Accession Number: 20240418-5326.

Comment Date: 5 p.m. ET 5/9/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: April 19, 2024.
Debbie-Anne A. Reese,
Acting Secretary.

[FR Doc. 2024-08924 Filed 4-25-24; 8:45 am]

BILLING CODE 6717-01-P